DEPARTMENT OF DEFENSE

GENERAL SERVICES ADMINISTRATION

NATIONAL AERONAUTICS AND SPACE ADMINISTRATION

48 CFR Chapter 1

Federal Acquisition Regulation; Small Entity Compliance Guide

AGENCIES: Department of Defense (DoD), General Services Administration (GSA), and National Aeronautics and Space Administration (NASA).

ACTION: Small Entity Compliance Guide.

SUMMARY: This document is issued under the joint authority of the Secretary of Defense, the Administrator of General Services and the Administrator for the National Aeronautics and Space Administration. This Small Entity Compliance Guide has been prepared in accordance with Section 212 of the Small Business Regulatory Enforcement Fairness Act of 1996 (Public Law 104-121). It consists of a summary of rules appearing in Federal Acquisition Circular (FAC) 97-20 which amend the FAR. An asterisk (*) next to a rule indicates that a regulatory flexibility analysis has been prepared in accordance with 5 U.S.C. 604. Interested parties may obtain further information regarding these rules by referring to FAC 97-20 which precedes this document. These documents are also available via the Internet at http://www.arnet.gov/far.

FOR FURTHER INFORMATION CONTACT: Laurie Duarte, FAR Secretariat, (202) 501-4225. For clarification of content, contact the analyst whose name appears in the table below.

List of Rules in FAC 97-20
Item | Subject | FAR case | Analyst
I | Veterans Entrepreneurship And Small Business Development Act * | 2000-302 | Moss.
II | Truth in Negotiations Act Threshold | 2000-300 | Olson.

Item I—Veterans Entrepreneurship and Small Business Development Act of 1999 (FAR Case 2000-302)

This interim rule amends the FAR to implement sections 501(c), 502(a)(2), and 604(d) of the Veterans Entrepreneurship and Small Business Development Act of 1999 (Pub. L. 106-50). This Act established new assistance programs for veterans and service-disabled veterans who own and operate small businesses. This interim rule—

• Defines the terms “veteran-owned small business concerns” and “service-disabled veteran-owned small business concerns”;

• Establishes that veteran-owned and service-disabled veteran-owned small businesses be afforded maximum practical opportunity to participate in the performance of contracts and subcontracts awarded by any Federal agency;

• Establishes a requirement to include a goal for veteran-owned small businesses in subcontracting plans under FAR 52.219-9; and

• Amends the SF 294 and SF 295 to add data collection requirements for subcontract awards to veteran-owned small businesses and service disabled veteran-owned small business concerns.

Item II—Truth in Negotiations Act Threshold (FAR Case 2000-300)

This final rule amends FAR 15.403-4 to increase the threshold for obtaining cost or pricing data from $500,000 to $550,000. This implements the requirements of 10 U.S.C. 2306a(a)(7) and 41 U.S.C. 254b(a)(7). These statutes require review of the Truth in Negotiations Act threshold every 5 years, starting October 1, 1995.

Dated: October 3, 2000.
Al Matera,
Acting Director, Federal Acquisition Policy Division.

[FR Doc. 00-25876 Filed 10-10-00; 8:45 am]

BILLING CODE 6820-EP-P